FEDERAL HOUSING FINANCE BOARD

Sunshine Act Meeting Notice: Change in Time of Closed Meeting; Change in Date and Time of Open Meeting

Federal Register Citations of Previous Announcements: 69 FR 1289, January 8, 2004, 69 FR 1746, January 12, 2004.

Change of Meeting Times and Date: The closed meeting of the Board of Directors previously scheduled for 11 a.m. on Wednesday January 14, 2004, is now scheduled to begin at 10 a.m. on Wednesday, January 14, 2004. The open meeting of the Board of Directors originally scheduled for 10 a.m. on January 14, 2004, is now scheduled to begin at 2 p.m. on Friday, January 23, 2004. It will follow the previously announced public hearing. See 69 FR 1289 (January 8, 2004).

FOR FURTHER INFORMATION CONTACT: Mary Gottlieb, Paralegal Specialist, Office of General Counsel, by telephone at (202) 408-2826 or by electronic mail at gottliebm@fhfb.gov.

Dated: January 13, 2004.
By the Federal Housing Finance Board.
Arnold Intrater,
General Counsel.

[FR Doc. 04-980 Filed 1-13-04; 11:46 am]

BILLING CODE 6725-01-P